DEPARTMENT OF TRANSPORTATION

Federal Aviation Administration

14 CFR Part 71

Docket No. FAA-2011-1406; Airspace Docket No. 11-AWA-5

Amendment of Class C Airspace; Springfield, MO; Lincoln, NE; Grand Rapids, MI

AGENCY: Federal Aviation Administration (FAA), DOT.

ACTION: Final rule, technical amendment.

SUMMARY: This action modifies the Springfield, MO; Lincoln, NE; and Grand Rapids, MI, Class C airspace areas by amending the legal descriptions to contain the current airport names and updated airport reference point (ARP) information. This action does not change the boundaries of the controlled airspace areas.

DATES: Effective Date: 0901 UTC, April 5, 2012. The Director of the Federal Register approves this incorporation by reference action under 1 CFR part 51, subject to the annual revision of FAA Order 7400.9 and publication of conforming amendments.

FOR FURTHER INFORMATION CONTACT: Colby Abbott, Airspace, Regulations and ATC Procedures Group, Office of Airspace Services, Federal Aviation Administration, 800 Independence Avenue SW., Washington, DC 20591; telephone: (202) 267-8783.

SUPPLEMENTARY INFORMATION:

History

Class C airspace areas are designed to improve air safety by reducing the risk of midair collisions in high volume airport terminal areas and to enhance the management of air traffic operations in that area. The FAA Central Service Center recently completed its biennial evaluation of existing Class C airspace areas in the Central Service Area and determined three Class C airspace areas required description amendments to match the FAA's aeronautical database. Specifically, this amendment corrects the airport names for Springfield, MO; Lincoln, NE; and Grand Rapids, MI, and makes minor adjustments to the ARP geographic position information for Springfield, MO, and Grand Rapids, MI.

The Rule

This action amends Title 14 Code of Federal Regulations (14 CFR) part 71 by amending Class C airspace at Springfield, MO; Lincoln, NE; and Grand Rapids, MI. The airport formerly known as Springfield-Branson Regional Airport in Springfield, MO, is renamed Springfield-Branson National Airport. The airport formerly known as Lincoln Municipal Airport in Lincoln, NE., is renamed Lincoln Airport. The airport formerly known as Grand Rapids Kent County International Airport in Grand Rapids, MI, is renamed Gerald R. Ford International Airport. Additionally, the ARP geographic position for the Springfield-Branson National Airport is changed from lat. 37°14′40″ N., long. 93°23′13″ W. to lat. 37°14′44″ N., long. 93°23′19″ W., and the ARP geographic position for the Gerald R. Ford International Airport is changed from lat. 42°52′57″ N., long. 85°31′26″ W. to lat. 42°52′51″ N., long. 85°31′22″ W. These minor adjustments to the geographic coordinates reflect the current information in the FAA's aeronautical database.

There are no changes to routing or air traffic control procedures resulting from this action. Accordingly, since this is an administrative change and does not affect the boundaries, altitudes, or operating requirements of the airspace, notice and public procedures under Title 5 U.S.C. 553(b) are unnecessary.

Class C airspace areas are published in paragraph 4000 of FAA Order 7400.9V, dated August 9, 2011 and effective September 15, 2011, which is incorporated by reference in 14 CFR 71.1. The Class C airspace area amendment in this document will be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it amends the descriptions of the Class C airspace areas established in the vicinity of Springfield, MO, Lincoln, NE, and Grand Rapids, MI.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9V, Airspace Designations and Reporting Points, dated August 9, 2011 and effective September 15, 2011, is amended as follows:

Paragraph 4000 Class C Airspace.

* * * * *

ACE MO C Springfield-Branson National Airport, MO

Springfield-Branson National Airport, MO

(Lat. 37°14′44″ N., long. 93°23′19″ W.)

Bird Field Airport

(Lat. 37°19′12″ N., long. 93°25′12″ W.)

That airspace extending upward from the surface to and including 5,300 feet MSL within a 5-mile radius of Springfield-Branson National Airport, excluding that airspace within a 1-mile radius of the Bird Field Airport; and that airspace extending upward from 2,500 feet MSL to and including 5,300 feet MSL within a 10-mile radius of Springfield-Branson National Airport.

* * * * *

ACE NE C Lincoln Airport, NE

Lincoln Airport, NE

(Lat. 40°51′03″ N., long. 96°45′33″ W.)

That airspace extending upward from the surface to and including 5,200 feet MSL within a 5-mile radius of the Lincoln Airport; and that airspace extending upward from 2,700 feet MSL to and including 5,200 feet MSL within a 10-mile radius of the airport. This Class C airspace area is effective during the specific dates and times established in advance by a Notice to Airmen. The effective date and time will thereafter be continuously published in the Airport/Facility Directory.

* * * * *

AGL MI C Gerald R. Ford International Airport, MI

Gerald R. Ford International Airport, Grand Rapids, MI

(Lat. 42° 52′51″ N., long. 85°31′22″ W.)

That airspace extending upward from the surface to and including 4,800 feet MSL within a 5-mile radius of the Gerald R. Ford International Airport; and that airspace extending upward from 2,000 feet MSL to and including 4,800 feet MSL within a 10-mile radius of the airport. This Class C airspace area is effective during the specific dates and times established in advance by a Notice to Airmen. The effective dates and times will thereafter be continuously published in the Airport/Facility Directory.

* * * * *

Issued in Washington, DC, on January 26, 2012.
Gary A. Norek,
Acting Manager, Airspace, Regulations and ATC Procedures Group.

[FR Doc. 2012-2485 Filed 2-3-12; 8:45 am]

BILLING CODE 4910-13-P